RAILROAD RETIREMENT BOARD

Sunshine Act; Notice of Public Meeting

Notice is hereby given that the Railroad Retirement Board will hold a meeting on July 29, 2015, 10 a.m., at the Board's meeting room on the 8th floor of its headquarters building, 844 North Rush Street, Chicago, Illinois, 60611. The agenda for this meeting follows:

Portion open to the public:

(1) Executive Committee Reports

(2) Labor Member's Comments on Changes to the Disability Program

The person to contact for more information is Martha P. Rico, Secretary to the Board, Phone No. 312-751-4920.

Dated: July 10, 2015.
Martha P. Rico,
Secretary to the Board.

[FR Doc. 2015-17321 Filed 7-10-15; 11:15 am]

BILLING CODE 7905-01-P